DEPARTMENT OF LABOR

Employment and Training Administration

[TA-W-50,334]

Sumco Phoenix Corporation; Fremont, CA; Notice of Termination of Investigation

Pursuant to section 221 of the Trade Act of 1974, an investigation was initiated on December 13, 2002, in response to a petition filed by a company official on behalf of workers at Sumco Phoenix Corporation, Fremont, California.

The company official submitting the petition has requested that the petition be withdrawn. Consequently, further investigation in this case would serve no purpose and the investigation has been terminated.

Signed in Washington, DC this 17th day of January, 2003.
Elliott S. Kushner,
Certifying Officer, Division of Trade Adjustment Assistance.

[FR Doc. 03-2563 Filed 2-3-03; 8:45 am]

BILLING CODE 4510-30-P